DEPARTMENT OF HEALTH AND HUMAN SERVICES

Centers for Disease Control and Prevention

[30Day-21-0792]

Agency Forms Undergoing Paperwork Reduction Act Review

In accordance with the Paperwork Reduction Act of 1995, the Centers for Disease Control and Prevention (CDC) has submitted the information collection request titled “Environmental Health Specialists Network (EHS-Net) Program” to the Office of Management and Budget (OMB) for review and approval. CDC previously published a “Proposed Data Collection Submitted for Public Comment and Recommendations” notice on April 5, 2021 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Environmental Health Specialists Network (EHS-Net) Program (OMB Control No. 0920-0792, Exp. 8/31/2021)—Revision—National Center for Environmental Health (NCEH), Centers for Disease Control and Prevention (CDC).

Background and Brief Description

The CDC is requesting a three-year Paperwork Reduction Act (PRA) clearance for this generic clearance. This Revision information collection request (ICR) will allow the Environmental Health Specialists Network (EHS-Net) to collect research data focused on identifying and addressing the environmental causes of foodborne illness.

An estimated 47.8 million foodborne illnesses occur annually in the United States, resulting in 127,839 hospitalizations, and 3,037 deaths annually. These figures indicate that foodborne illness is a significant problem in the U.S. Reducing foodborne illness requires identification and understanding of the environmental factors that cause these illnesses, and it needs to be understood how and why food becomes contaminated with foodborne illness pathogens. This information can then be used to determine effective food safety prevention methods, increase regulatory program effectiveness, and decrease foodborne illness. The purpose of this food safety research program is to identify and understand environmental factors associated with foodborne illness and outbreaks. This program is conducted by the EHS-Net, a collaborative project of CDC, FDA, USDA, and local and state sites.

Environmental factors associated with foodborne illness include both food safety practices (e.g., inadequate cleaning practices) and the factors in the environment associated with those practices (e.g., worker and retail food establishment characteristics). To understand these factors, we need to collect data from those who prepare food (i.e., food workers) and on the environments in which the food is prepared (i.e., retail food establishment kitchens). Thus, data collection methods for this generic package include: (1) Manager and worker interviews/information collection instruments, and (2) observation of kitchen environments. Both methods allow data collection on food safety practices and environmental factors associated with those practices. To date, EHS-Net has conducted five studies under this generic clearance. The data from these studies have been disseminated to environmental public health/food safety regulatory programs and the food industry in the form of presentations at conferences and meetings, scientific journal publications, and website postings.

The current package differs from the previous package in three primary ways, described below.

• The sites in which data will be collected differ. CDC funded a renewal of the EHS-Net cooperative agreement in 2020; as a result, one site was dropped from the agreement (California), and one was added (Franklin County, Ohio). The other sites remained the same. These are: Harris County, Texas; Minnesota; New York; New York City, New York; Rhode Island; Southern Nevada Health District, Nevada; and Tennessee.

• Since the previous PRA clearance, the National Center for Environmental Health (NCEH) Human Subjects Coordinator has determined that EHS-Net information collections are not human subjects research, and thus, do not require IRB review or approval.

• The annual burden estimate has been revised downward by 933 hours from 1,777 hours in 2018 to 844 hours in 2021. We estimated interviewing 10 workers per restaurant in the last cycle; we have revised this down to five workers per restaurant.

There is no cost to the respondents other than their time. The total annual time burden requested is 844 hours.

Estimated Annualized Burden Hours
Type of respondents | Form name | Number of respondents | Number of responses per respondent | Average burden per response (in hours)
Retail managers | Manager Telephone Recruiting Script | 889 | 1 | 3/60
| Manager Interview/Assessment | 400 | 1 | 30/60
| Observation | 400 | 1 | 30/60
Retail food workers | Worker Recruiting/Informed Consent Script | 2,000 | 1 | 2/60
| Worker Interview/Assessment | 2,000 | 1 | 10/60

Jeffrey M. Zirger,
Lead, Information Collection Review Office, Office of Scientific Integrity, Office of Science, Centers for Disease Control and Prevention.

[FR Doc. 2021-17345 Filed 8-12-21; 8:45 am]

BILLING CODE 4163-18-P